DEPARTMENT OF VETERANS AFFAIRS

Voluntary Service National Advisory Committee; Notice of Meeting

The Department of Veterans Affairs (VA) gives notice under Public Law 92-463 (Federal Advisory Committee Act) that the Executive Committee of the Department of Veterans Affairs Voluntary Service (VAVS) National Advisory Committee (NAC) will meet October 25-26, 2012, at the Embassy Suites Raleigh-Durham Research Triangle Park, 201 Harrison Oaks Boulevard, Cary, North Carolina. The sessions will begin at 8:30 a.m. each day and end at 4:30 p.m. on October 25, and at noon on October 26, 2012. The meeting is open to the public.

The Committee, comprised of 57 national voluntary organizations, advises the Secretary, through the Under Secretary for Health, on the coordination and promotion of volunteer activities within VA health care facilities. The Executive Committee consists of 20 representatives from the NAC member organizations.

On October 25, agenda topics will include: NAC goals and objectives; review of minutes from the March 2012 NAC annual meeting; VAVS update on the Voluntary Service program's activities; Parke Board update; evaluations of the 2012 NAC annual meeting; review of membership criteria and process; and plans for 2013 NAC annual meeting (to include workshops and plenary sessions).

On October 26, agenda topics will include: Subcommittee reports; review of standard operating procedures; review of Fiscal Year 2012 organization data; 2014 NAC annual meeting plans; and any new business.

No time will be allocated at this meeting for receiving oral presentations from the public. However, the public may submit written statements for the Committee's review to Ms. Laura Balun, Designated Federal Officer, Voluntary Service Office (10B2A), Department of Veterans Affairs, 810 Vermont Avenue NW., Washington, DC, 20420, or by email at Laura.Balun@va.gov. Any member of the public wishing to attend the meeting or seeking additional information should contact Ms. Balun at (202) 461-7300.

By Direction of the Secretary.
Dated: September 27, 2012.
Vivian Drake,
Committee Management Officer.

[FR Doc. 2012-24223 Filed 10-2-12; 8:45 am]

BILLING CODE P